ENVIRONMENTAL PROTECTION AGENCY

[ER-FRL-9005-8]

Environmental Impacts Statements; Notice of Availability

Responsible Agency: Office of Federal Activities, General Information (202) 564-7146 or http://www.epa.gov/compliance/nepa/.

Weekly receipt of Environmental Impact Statements

Filed 10/22/2012 Through 10/26/2012

Pursuant to 40 CFR 1506.9.

Notice: Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp.

EIS No. 20120344, Final EIS, BLM, AZ, Restoration Design Energy Project, Proposed Resource Management Plan Amendments, Identifying Lands Across Arizona Suitable for Renewable Energy Development, AZ, Review Period Ends: 12/03/2012, Contact: Kathryn Pedrick 602-417-9235.

EIS No. 20120345, Revised Draft EIS, USFS, ID, Lower Orogrande Project, Analysis of Three Alternatives, North Fork Ranger District, Clearwater National Forest, Clearwater County, ID, Comment Period Ends: 12/17/2012, Contact: Kathy Rodriguez 208-476-4541.

EIS No. 20120346, Final EIS, USFS, CA, Two Bit Vegetation Management Project, Happy Camp Ranger District, Klamath National Forest, Siskiyou County, CA, Review Period Ends: 12/17/2012, Contact: Wendy Coats 530-841-4470

EIS No. 20120347, Draft EIS, USFS, OR, Summit Logan Valley Grazing Authorization Project, Prairie City Ranger District, Malheur National Forest, Grant County, OR, Comment Period Ends: 12/17/2012, Contact: Randy Gould 541-820-3800.

EIS No. 20120348, Draft EIS, USFS, AZ, Show Low South Land Exchange, Apache-Sitgreaves National Forests, Coconino National Forest, and Prescott National Forest, Yavapai, Navajo, Greenlee, and Apache Counties, AZ, Comment Period Ends: 12/17/2012, Contact: Stephen James 928-333-6266.

EIS No. 20120349, Draft EIS, FHWA, VA, Interstate 64 Peninsula, from Interstate 95 in the City of Richmond to Interstate 664 in the City of Hampton, VA, Comment Period Ends: 01/07/2013, Contact: John Simkins 804-371-6831.

EIS No. 20120350, Final EIS, BLM, CA, Desert Harvest Solar Project, Construction, Operation, Maintenance, and Decommissioning of an 150-megawatt Photovoltaic Solar Energy Facility and Generation-Intertie Transmission Line, Consideration of Issuance of a Right-of-Way Grant, Riverside County, CA, Review Period Ends: 12/03/2012, Contact: Frank McMenimen 760-833-7150.

EIS No. 20120351, Final EIS, VCT, NM, Valles Caldera National Preserve Public Access and Use Plan, Sandoval and Rio Arriba Counties, NM, Review Period Ends: 12/05/2012, Contact: Marie Rodriguez 505-428-7728.

Dated: October 29, 2012.
Dawn R. Roberts,
Management Analyst, NEPA Compliance Division, Office of Federal Activities.

[FR Doc. 2012-26876 Filed 11-1-12; 8:45 am]

BILLING CODE 6560-50-P